SMALL BUSINESS ADMINISTRATION

[Declaration of Disaster #3393]

State of Missouri; Amendment #1

In accordance with information received from the Federal Emergency Management Agency, dated February 13 and February 15, 2002, the above numbered declaration is hereby amended to include Barton, Cedar, Clark, Daviess, DeKalb, Knox, Lewis, Marion, Ralls and Scotland Counties in the State of Missouri as disaster areas due to damages caused by a severe winter ice storm, and to establish the incident period for this disaster as beginning on January 29, 2002 and continuing through February 13, 2002.

In addition, applications for economic injury loans from small businesses located in the following contiguous counties may be filed until the specified date at the previously designated location: Dade, Gentry and Jasper Counties in Missouri; Davis, Lee and Van Buren Counties in Iowa; and Adams, Hancock and Pike Counties in Illinois. All other counties contiguous to the above-named primary counties have been previously declared.

For economic injury the number is 9O6900 for Iowa and 9O7000 for Illinois.

All other information remains the same, i.e., the deadline for filing applications for physical damage is April 8, 2002, and for loans for economic injury the deadline is November 7, 2002.

(Catalog of Federal Domestic Assistance Program Nos. 59002 and 59008)
Dated: February 19, 2002.
Herbert L. Mitchell,
Associate Administrator, For Disaster Assistance.

[FR Doc. 02-4782 Filed 2-27-02; 8:45 am]

BILLING CODE 8025-01-P